DEPARTMENT OF HEALTH AND HUMAN SERVICES

Food and Drug Administration

[Docket Nos. FDA-2024-N-5603; FDA-2024-N-4731; FDA-2024-N-5468; FDA-2024-N-5234; FDA-2025-N-0123; FDA-2025-N-0383; FDA-2025-N-0338; FDA-2025-N-0183; FDA-2025-N-0349; FDA-2025-N-0082]

Agency Information Collection Activities; Announcement of Office of Management and Budget Approvals

AGENCY: Food and Drug Administration, HHS.

ACTION: Notice.

SUMMARY: The Food and Drug Administration (FDA) is publishing a list of information collections that have been approved by the Office of Management and Budget (OMB) under the Paperwork Reduction Act of 1995.

FOR FURTHER INFORMATION CONTACT: Amber Barrett, Office of Operations, Food and Drug Administration, Three White Flint North, 10A-12M, 11601 Landsdown St., North Bethesda, MD 20852, 301-796-8867, PRAStaff@fda.hhs.gov.

SUPPLEMENTARY INFORMATION: The following is a list of FDA information collections recently approved by OMB under section 3507 of the Paperwork Reduction Act of 1995 (44 U.S.C. 3507). The OMB control number and expiration date of OMB approval for each information collection are shown in table 1. Copies of the supporting statements for the information collections are available on the internet at https://www.reginfo.gov/public/do/PRAMain. An Agency may not conduct or sponsor, and a person is not required to respond to, a collection of information unless it displays a currently valid OMB control number.

Table 1—List of Information Collections Approved by OMB
Title of collection | OMB control No. | Date approval expires
New Animal Drug and Veterinary Master Files | 0910-0032 | 9/30/2028
Administrative Detention and Banned Medical Devices | 0910-0114 | 9/30/2028
Food and Drug Administration's Adverse Event and Product Experience Reporting Program | 0910-0291 | 9/30/2027
Notification Procedures for Statements of Dietary Supplements | 0910-0331 | 9/30/2028
Substances Generally Recognized as Safe (GRAS): Notifications and Convening Panels | 0910-0342 | 9/30/2028
Public Health Service Guideline on Infectious Disease Issues in Xenotransplantation | 0910-0456 | 9/30/2028
Export Notification and Recordkeeping Requirements | 0910-0482 | 9/30/2028
Establishing and Maintaining Lists of United States Establishments With Interest in Exporting Human Food Program-Regulated Products | 0910-0509 | 9/30/2028
Foreign Supplier Verification Programs for Importers of Food for Humans and Animals | 0910-0752 | 9/30/2028
Compounding Animal Drugs From Bulk Drug Substances | 0910-0904 | 9/30/2028

Brian Fahey,
Associate Commissioner for Legislation.

[FR Doc. 2025-23483 Filed 12-18-25; 8:45 am]

BILLING CODE 4164-01-P